DEPARTMENT OF COMMERCE

International Trade Administration

[A-201-802]

Gray Portland Cement and Clinker From Mexico; Notice of Extension of Final Results of Antidumping Duty Administrative Review

AGENCY: Import Administration, International Trade Administration, Department of Commerce.

ACTION: Notice of extension of time limits for final results of antidumping duty administrative review.

SUMMARY: The Department of Commerce is extending the time limit for the final results of the administrative review of the antidumping duty order on gray portland cement and clinker from Mexico. The review covers one manufacturer/exporter, CEMEX, S.A. de C.V, and its affiliate, GCC Cemento, S.A. de C.V. The period of review is August 1, 1999, through July 31, 2000.

EFFECTIVE DATE: January 15, 2002.

FOR FURTHER INFORMATION CONTACT: Hermes Pinilla, AD/CVD Enforcement Group I, Office 3, Import Administration, International Trade Administration, U.S. Department of Commerce, 14th Street and Constitution Avenue, NW., Washington, DC 20230; telephone (202) 482-3477.

The Applicable Statute

Unless otherwise indicated, all citations to the Tariff Act of 1930, as amended (the Act), are references to the provisions effective January 1, 1995, the effective date of the amendments made to the Act by the Uruguay Round Agreements Act.

Extension of Time Limit for Final Results

The Department of Commerce (the Department) published the preliminary results of this administrative review on September 13, 2001 (66 FR 47632). The deadline for completing the final results of the review is January 11, 2002. Under section 751(a)(3)(A) of the Act, the Department may extend the deadline for completion of an administrative review if it determines that it is not practicable to complete the review within the statutory time limit. Due to the complexity of the issues, such as product matching and whether certain sales are outside the ordinary course of trade, the Department determines that it is not practicable to complete the final results of this review within the statutory time limit. Therefore, the Department is extending the time limit for the final results in this review to March 12, 2002.

Dated: January 9, 2002.
Susan Kuhbach,
Acting, Deputy Assistant Secretary, for AD/CVD Enforcement I.

[FR Doc. 02-973 Filed 1-14-02; 8:45 am]

BILLING CODE 3510-DS-P